DEPARTMENT OF THE INTERIOR

Bureau of Land Management

[L14400000/LLAZ920000/ET0000/AZA-18465]

Notice of Application for Extension and Opportunity for Public Meeting; Federal Correctional Institution—Phoenix, Arizona

AGENCY: Bureau of Land Management, Interior.

ACTION: Notice of application.

SUMMARY: The United States Department of Justice, Federal Bureau of Prisons (BOP) has filed an application with the Bureau of Land Management (BLM) for the Secretary of the Interior to extend the withdrawal created by Public Land Order (PLO) No. 6493, as extended by PLO No. 7474, for an additional 20-year term. PLO No. 6493, which as extended by PLO 7474 will currently expire on December 23, 2023, withdrew 70 acres of public lands from settlement, sale, location, or entry under the general land laws, including the United States mining laws, but not from leasing under the mineral leasing laws, subject to valid existing rights, and reserved the land for use by the BOP for support facilities at the Federal Correctional Institution—Phoenix, in Maricopa County, Arizona. This notice provides for the public to comment and request a public meeting for the 20-year withdrawal extension application.

DATES: Comments and requests for a public meeting must be received by November 15, 2022.

ADDRESSES: All comments and meeting requests should be sent to the BLM Arizona State Office, 1 North Central Avenue, Suite 800, Phoenix, AZ 85004; faxed to (602) 417-9452; or sent by email to BLM_AZ_Withdrawal_Comments@blm.gov. The BLM will not consider comments via telephone calls.

FOR FURTHER INFORMATION CONTACT: Michael Ouellett, Realty Specialist, BLM Arizona State Office, 1 North Central Avenue, Suite 800, Phoenix, AZ 85004, telephone: (602) 417-9561, email: mouellett@blm.gov; or you may contact the BLM office at the address listed above. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The BOP has filed an application requesting the extension of the withdrawal and reservation of 70 acres established by PLO No. 6493 (48 FR 56227), as extended by PLO No. 7474 (65 FR 80907), which are incorporated herein by reference. The BOP has requested that the withdrawal be extended for an additional 20-year term and the land reserved for use by the BOP for support facilities at the Federal Correctional Institution-Phoenix, subject to valid existing rights.

There are no suitable alternative sites available.

No water rights would be needed to fulfill the purpose of this withdrawal extension.

Notice is hereby given that comments or request for an opportunity for a public meeting is afforded in connection with this withdrawal extension. All interested persons who desire a public meeting for the purpose of being heard on the requested withdrawal extension must submit a written request to the State Director, BLM Arizona State Office at the address in the ADDRESSES section no later than November 15, 2022. If the BLM authorized officer determines that a public meeting will be held, a notice of the date, time, and place will be published in the Federal Register and a local newspaper at least 30 days before the scheduled date of the meeting.

Before including your address, phone number, email address, or other personal identifying information in your comment, you should be aware that your entire comment, including your personal identifying information, may be made publicly available at any time. While you can ask BLM in your comment to withhold your personal identifying information from public review, we cannot guarantee that we will be able to do so.

A decision of the Secretary of the Interior to extend a withdrawal as requested is subject to compliance with the National Environmental Policy Act (NEPA). The BLM established a categorical exclusion (CX), developed pursuant to NEPA, and found at 516 Departmental Manual 11.9(E)(1), that addresses extensions such as the one requested, which consists merely of an extension of time, without any other changes. The BLM anticipates reliance on the referenced CX, subject to extraordinary circumstances review, should the Secretary elect to extend the withdrawal, and anticipates that neither preparation of an environmental impact statement nor an environmental assessment will be necessary.

This application will be processed in accordance with the regulations at 43 CFR 2310.4.

(Authority: 43 U.S.C. 1714(f))

Raymond Suazo,
State Director.

[FR Doc. 2022-17712 Filed 8-16-22; 8:45 am]

BILLING CODE 4310-32-P